INTERNATIONAL TRADE COMMISSION

[Investigation Nos. 701-TA-502 and 731-TA-1227 (Final) (Remand)]

Steel Concrete Reinforcing Bar From Mexico and Turkey

AGENCY: United States International Trade Commission.

ACTION: Notice of remand proceedings.

SUMMARY: The U.S. International Trade Commission (“Commission”) hereby gives notice of the remand of its final determinations in the antidumping and countervailing duty investigations of steel concrete reinforcing bar (“rebar”) from Mexico and Turkey. For further information concerning the conduct of these remand proceedings and rules of general application, consult the Commission's Rules of Practice and Procedure, part 201, subparts A through E (19 CFR part 201), and part 207, subpart A (19 CFR part 207).

DATES: Effective Date: September 2, 2016.

FOR FURTHER INFORMATION CONTACT: Douglas Corkran (202-205-3057), Office of Investigations, or John Henderson (202-205-2130), Office of General Counsel, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record of Investigation Nos. 701-TA-502 and 731-TA-1227 (Final) may be viewed on the Commission's electronic docket (EDIS) at https://edis.usitc.gov.

SUPPLEMENTARY INFORMATION: Background.—In October 2014, the Commission unanimously determined that an industry in the United States was materially injured by reason of imports of rebar from Mexico that were sold in the United States at less than fair value and imports of rebar from Turkey that were subsidized by the government of Turkey. Respondents Deacero S.A.P.I., de C.V. and Deacero USA, Inc. contested the Commission's determinations concerning subject imports from Mexico before a bi-national Panel established pursuant to Article 1904 of the North American Free Trade Agreement. The Panel remanded one issue to the Commission and affirmed all other aspects of the Commission's determinations. In the Matter of Steel Concrete Reinforcing Bar from Mexico and Turkey: Final Affirmative Antidumping Injury Determination, Secretariat File No. USA-MEX-2014-1904-02 (July 14, 2016). Specifically, the Panel remanded for the Commission to reconsider whether rebar and in-scope deformed steel wire are part of a single domestic like product.

Participation in the proceeding.—Only those persons who were interested parties that participated in the investigations (i.e., persons listed on the Commission Secretary's service list) may participate in the remand proceedings. Such persons need not make any additional notice of appearances or applications with the Commission to participate in the remand proceedings, unless they are adding new individuals to the list of persons entitled to receive business proprietary information (“BPI”) under administrative protective order (“APO”). BPI referred to during the remand proceedings will be governed, as appropriate, by the APO issued in the investigations. The Secretary will maintain a service list containing the names and addresses of all persons or their representatives who are parties to the remand proceedings, and the Secretary will maintain a separate list of those authorized to receive BPI under the APO during the remand proceedings.

Written Submissions.—The Commission is not reopening the record and will not accept the submission of new factual information for the record. The Commission will permit the parties to file comments concerning how the Commission could best comply with the Panel's remand instructions.

The comments must be based solely on the information in the Commission's record. The Commission will reject submissions containing additional factual information or arguments pertaining to issues other than the specific one on which the Panel has remanded this matter. The deadline for filing comments is September 13, 2016. Comments shall be limited to no more than fifteen (15) double-spaced and single-sided pages of textual material.

Parties are advised to consult with the Commission's Rules of Practice and Procedure, part 201, subparts A through E (19 CFR part 201), and part 207, subpart A (19 CFR part 207) for provisions of general applicability concerning written submissions to the Commission. All written submissions must conform with the provisions of section 201.8 of the Commission's rules; any submissions that contain BPI must also conform with the requirements of sections 201.6, 207.3, and 207.7 of the Commission's rules. The Commission's Handbook on E-Filing, available on the Commission's Web site at https://edis.usitc.gov, elaborates upon the Commission's rules with respect to electronic filing.

Additional written submissions to the Commission, including requests pursuant to § 201.12 of the Commission's rules, shall not be accepted unless good cause is shown for accepting such submissions or unless the submission is pursuant to a specific request by a Commissioner or Commission staff.

In accordance with §§ 201.16(c) and 207.3 of the Commission's rules, each document filed by a party to the investigation must be served on all other parties to the investigation (as identified by either the public or BPI service list), and a certificate of service must be timely filed. The Secretary will not accept a document for filing without a certificate of service.

By order of the Commission.
Issued: August 29, 2016.
Lisa R. Barton,
Secretary to the Commission.

[FR Doc. 2016-21104 Filed 9-1-16; 8:45 am]

BILLING CODE 7020-02-P